ENVIRONMENTAL PROTECTION AGENCY

[ER-FRL-9015-2]

Environmental Impact Statements; Notice of Availability

Responsible Agency: Office of Federal Activities, General Information (202) 564-7146 or http://www.epa.gov/compliance/nepa/.

Weekly receipt of Environmental Impact Statements

Filed 05/19/2014 Through 05/23/2014

Pursuant to 40 CFR 1506.9.

NOTICE:

Section 309(a) of the Clean Air Act requires that EPA make public its comments on EISs issued by other Federal agencies. EPA's comment letters on EISs are available at: http://www.epa.gov/compliance/nepa/eisdata.html.

EIS No. 20140154, Draft EIS, USACE, MS, Bayou Casotte Harbor Channel Improvement Project, Comment Period Ends: 07/14/2014, Contact: Jennifer Jacobson 251-690-2724

EIS No. 20140155, Draft EIS, USFWS, CA, Maricopa Sun Solar Complex Habitat Conservation Plan, Comment Period Ends: 08/25/2014, Contact: Mike Thomas 906-414-6600

EIS No. 20140156, Second Draft EIS (Tiering), BLM, AFS, ID, Smoky Canyon Mine, Panels F & G Lease and Mine Plan Modification Project, Comment Period Ends: 07/15/2014, Contact: Diane Wheeler 208-557-5839

The U.S. Department of the Interior's Bureau of Land Management and U.S. Department of Agriculture's Forest Service are joint lead agencies for the above project.

EIS No. 20140157, Final Supplement, GSA, CA, San Ysidro Land Port of Entry Improvements Project, Review Period Ends: 06/30/2014, Contact: Osmahn A. Kadri 415-522-3617

EIS No. 20140158, Draft Supplement, NMFS, AK, Management of the Subsistence Harvest of Northern Fur Seals on St. George Island, Comment Period Ends: 07/14/2014, Contact: Michael Williams 907-271-5117

EIS No. 20140159, Final EIS, RUS, ND, Antelope Valley Station to Neset Transmission Project, Review Period Ends: 06/30/2014, Contact: Dennis Rankin 202-720-1953

EIS No. 20140160, Final EIS, NPS, FL, Biscayne National Park Fishery Management Plan, Review Period Ends: 06/30/2014, Contact: Vanessa McDonough 305-230-1144 ext. 027

EIS No. 20140161, Final EIS, BLM, CA, Modified Blythe Solar Power Project, Proposed Amendment to Right-of-Way Grant CACA 048811, Review Period Ends: 06/30/2014, Contact: Frank McMenimen 760-833-7150

Dated: May 27, 2014.
Cliff Rader,
Director, NEPA Compliance Division, Office of Federal Activities.

[FR Doc. 2014-12595 Filed 5-29-14; 8:45 am]

BILLING CODE 6560-50-P